DEPARTMENT OF COMMERCE

National Oceanic and Atmospheric Administration

RIN 0648-XU35

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Information and Education Advisory Panel, a Catch Shares Workshop, Catch Shares Committee, Mackerel Committee, Southeast Data Assessment and Review (SEDAR) Committee, Ecosystem-Based Management Committee, joint Shrimp Committee and Shrimp and Deepwater Shrimp Advisory Panels, joint Executive and Finance Committees, Advisory Panel Selection Committee (Closed Session), Scientific and Statistical Committee (SSC) Selection Committee (Closed Session), Information and Education Committee, joint Law Enforcement Committee and Advisory Panel, Snapper Grouper Committee, and a meeting of the full Council. The Council will also hold an informal public question and answer session, and a public comment session regarding agenda items. See SUPPLEMENTARY INFORMATION for additional details.

DATES: The meeting will be held March 1-5, 2010. See SUPPLEMENTARY INFORMATION for specific dates and times.

ADDRESSES: The meeting will be held at the Jekyll Island Club Hotel, 371 Riverview Drive, Jekyll Island, GA 31527; Telephone: 800/535-9547 or 912/635-2600; Fax 912/635-2818. Copies of documents are available from Kim Iverson, Public Information Officer, South Atlantic Fishery Management Council, 4055 Faber Place Drive, Suite 201, North Charleston, SC 29405.

FOR FURTHER INFORMATION CONTACT: Kim Iverson, Public Information Officer; telephone: 843/571-4366 or toll free at 866/SAFMC-10; fax: 843/769-4520; email: kim.iverson@safmc.net.

SUPPLEMENTARY INFORMATION:

Meeting Dates

1. Information and Education Advisory Panel Meeting: March 1, 2010, 10:30 a.m. until 5 p.m.; March 2, 2010, 8:30 a.m. - 3 p.m., (Concurrent Session)

The Information and Education Advisory Panel will discuss outreach activities relevant to management issues, review current tools and materials, and develop recommendations based upon outreach, media and educational needs.

2. Catch Shares Workshop: March 1, 2010, 8:30 a.m. until 12 noon.

A workshop for Council members will be held prior to the Catch Shares Committee meeting to provide an overview of the NOAA draft catch share policy, updates on all catch share draft amendments, and a discussion on catch share issues in the South Atlantic.

3. Catch Shares Committee Meeting: March 1, 2010, 1:30 p.m. until 4 p.m.

The Catch Shares Committee will develop comments in response to the NOAA draft catch share policy, receive information on the economic impact of management decisions in the South Atlantic snapper grouper fishery, receive an update on the wreckfish shareholders meeting, and provide direction to staff.

4. Mackerel Committee Meeting: March 1, 2010, 4 p.m. until 5 p.m.

The Mackerel Committee will review recommendations from the Gulf of Mexico Fishery Management Council regarding Amendment 18 (being developed jointly with the Gulf Council) outlining Annual Catch Limits (ACLs) and Accountability Measures for king mackerel, Spanish mackerel, and cobia, and addressing other management measures. The Committee will develop recommendations and provide direction to staff.

5. SEDAR Committee Meeting: March 1, 2010, 5 p.m. until 6 p.m.

The SEDAR Committee will review the SEDAR steering committee report, the SEDAR participant appointment process, and discuss conflict of interest policies. The Committee will develop recommendations for SEDAR 23 participants, schedule, and Terms of Reference and take action as appropriate. SEDAR 23 is an assessment of the South Atlantic's speckled hind and Warsaw grouper fisheries. The Committee will also develop recommendations for the May 2010 SEDAR steering committee meeting.

6. Ecosystem-Based Management Committee Meeting: March 2, 2010, 8:30 a.m. until 10:30 a.m.

The Ecosystem-Based Management Committee will meet to review Comprehensive Ecosystem-Based Amendment 2, take action as appropriate and provide direction to staff. The Committee will receive an update on the National Center for Coastal Ocean Research's Eat Lionfish Campaign, review draft policy on invasive species, and receive an ecosystem update.

7. Joint Shrimp Committee and Shrimp and Deepwater Shrimp Advisory Panels Meeting: March 2, 2010, 10:30 a.m. until 3:30 p.m.

The Shrimp Committee, Shrimp Advisory Panel, and Deepwater Shrimp Advisory Panel will receive a presentation on the economic data collection program, review the status of overwintering white shrimp stocks, discuss biological opinion issues, and provide recommendations.

8. Joint Executive and Finance Committee Meeting: March 2, 2010, 3:30 p.m. until 5 p.m.

The Executive Committee and Finance Committee will meet jointly to review the status of the Calendar Year (CY) budget, the status of the Fiscal Year 2011 President's / Congressional budget, and approve the CY 2010 budget. The Committees will also develop details of a Council and SSC member compensation policy relative to webinars and provide recommendations.

9. Advisory Panel Selection Committee Meeting (Closed Session): March 3, 2010, 8:30 a.m. until 9:30 a.m.

The Advisory Panel Selection Committee will review applications and develop recommendations for appointments.

10. SSC Selection Committee Meeting (Closed Session): March 3, 2010, 9:30 a.m. until 10:30 a.m.

The SSC Selection Committee will receive a joint SSC and SSC Selection Committee report, discuss the SSC Code of Conduct, review conflict of interest policies, discuss regional representation on the SSC, discuss interaction between the SSC and the Interdisciplinary Plan Team, and provide recommendations.

11. Information and Education Committee Meeting: March 3, 2010, 10:30 a.m. until 12 noon

The Committee will receive an update on information and education activities, review outreach tools including the Council's Web site, discuss needs, review the Information and Education Advisory Panel report, and develop recommendations.

12. Joint Law Enforcement Committee and Advisory Panel Meeting: March 3, 2010, 1:30 p.m. until 3:30 p.m.

The Law Enforcement Committee and Advisory Panel will discuss monitoring and enforcement of area closures, review allowable gear regulations in proposed snapper grouper closed areas, discuss enforceability and analysis of proposed regulations, and take action as appropriate. The Committee and AP will finalize development of a Law Enforcement Officer of the Year Award program and provide recommendations.

13. Council Session: March 3, 2010, 3:30 p.m. until 5:30 p.m., March 4, 2010, 8:30 a.m. until 6 p.m., and March 5, 2010, 8:30 a.m. until 3:30 p.m.

Council Session: March 3, 2010, 3:30 p.m. until 5:30 p.m.

From 3:30 p.m. - 3:45 p.m., the Council will call the meeting to order, adopt the agenda, and approve the December 2009 meeting minutes.

From 3:45 p.m. - 4:00 p.m., the Council will receive presentations.

Snapper Grouper Committee Meeting of the Whole: March 3, 2010, 4:00 p.m. until 5:30 p.m.

The Snapper Grouper Committee will review management alternatives in Amendment 17A to the Snapper Grouper Fishery Management Plan (FMP) addressing overfishing of red snapper, modify the document as necessary, and provide direction to staff.

NOTE: There will be an informal public question and answer session with NOAA Fisheries Services' Regional Administrator and the Council Chairman on March 3, 2010 beginning at 5:30 p.m. Immediately following the informal session, the public will be provided an opportunity to officially comment on any of the agenda items.

Council Session: March 4, 2010, 8:30 a.m. until 6 p.m.

Snapper Grouper Committee Meeting of the Whole: March 4, 2010, 8:30 a.m. until 6 p.m.

The Snapper Grouper Committee will continue to review management alternatives in Amendment 17A, modify the document as necessary, and provide direction to staff. The Committee will review Amendments 18 and 20 to the Snapper Grouper FMP, modify the documents as necessary and provide guidance to staff. Amendment 18 to the Snapper Grouper FMP addresses several management measures relative to the management complex, including expansion of the management unit northward of the Council's current jurisdiction, limiting participation in the commercial fishery for golden tilefish, modifications of management for the black sea bass pot fishery, allocations, changes to the golden tilefish fishing year, improvements to fisheries statistics, and designation of Essential Fish Habitat in northern areas. Amendment 20 to the Snapper Grouper FMP addresses changes to the Wreckfish commercial fishery Individual Transferable Quota (ITQ) program. The Committee also will receive a presentation from the SSC on the Control Rule relative to the Comprehensive Annual Catch Limit (ACL) Amendment.

Council Session: March 5, 2010, 8:30 a.m. until 3:30 p.m.

Snapper Grouper Committee Meeting of the Whole: March 5, 2010, 8:30 a.m. until 10 a.m.

The Snapper Grouper Committee will continue to review the Comprehensive ACL Amendment and provide direction to staff.

From 10 a.m. - 10:15 a.m., the Council will receive a report from the Catch Shares Committee and take action as appropriate.

From 10:15 a.m. - 10:30 a.m., the Council will receive a report from the Mackerel Committee and take action as appropriate.

From 10:30 a.m. - 10:45 a.m., the Council will receive a report from the SEDAR Committee and take action as appropriate.

From 10:45 a.m. - 11:00 a.m., the Council will receive a report from the Ecosystem-Based Management Committee and take action as appropriate.

From 11 a.m. - 11:15 a.m., the Council will receive a report from the Shrimp Committee and take action as appropriate.

From 11:15 a.m. - 11:30 a.m., the Council will receive a report from the joint Executive/Finance Committees meeting, approve the CY 2010 budget (as necessary), consider other Committee recommendations and take action as appropriate.

From 11:30 a.m. - 11:45 a.m., the Council will receive a report from the Advisory Panel Selection Committee and take action as appropriate.

From 11:45 a.m. - 12 noon., the Council will receive legal briefing on litigation (Closed Session).

From 1 p.m. - 1:15 p.m., the Council will receive a report from the SSC Selection Committee and take action as appropriate.

From 1:15 p.m. - 1:30 p.m., the Council will receive a report from the Information and Education Committee and take action as appropriate.

From 1:30 p.m. - 1:45 p.m., the Council will receive a report from the Law Enforcement Committee and take action as appropriate.

From 1:45 p.m. - 2 p.m., the Council will review and develop recommendations on Experimental Permit requests as necessary.

From 2 p.m. - 3:30 p.m., the Council will receive status reports from NOAA Fisheries' Southeast Regional Office, NOAA Fisheries' Southeast Fisheries Science Center, agency and liaison reports, and discuss other business including upcoming meetings.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by February 26, 2010.

Dated: February 12, 2010.
Emily H. Menashes,
Acting Director, Office of Sustainable Fisheries, National Marine Fisheries Service.

[FR Doc. 2010-3112 Filed 2-17-10; 8:45 am]

BILLING CODE 3510-22-S